DEPARTMENT OF TRANSPORTATION

Federal Aviation Administration

Environmental Impact Statement: New Orleans International Airport, New Orleans, Louisiana

AGENCY: Federal Aviation Administration (FAA), DOT.

ACTION: Notice of Intent.

SUMMARY: The FAA is issuing this notice to advise the public that an Environmental Impact Statement (EIS) will be prepared and considered for a proposed new air carrier runway and a taxiway conversion to a general aviation runway at New Orleans International Airport. The existing north-south Runway 1/19 does not provide full instrument capabilities, nor is it feasible to expand the runway to meet design standards to provide these capabilities because of its proximity to Airport Access Road and the Interstate 10 overpass. While the proposed runway is to provide the capacity to meet near-term forecast peak-period demands when the airport is experiencing low visibility, it would also provide capacity to meet longer-term demands during all weather conditions. Some of the alternatives being considered are the no action; north/south parallel to existing Runway 1/19; as well as an 8 degree canted north/south alignment. The conversion of the east-west Taxiway G to a runway is intended to serve general aviation (GA) aircraft using the recently constructed northside facilities, allowing air traffic controller separation of lower-speed GA aircraft from higher performance aircraft. The alternatives being considered are the no action; the proposed taxiway to runway conversion, and others that will be identified in the EIS study. Included in the alternatives analysis will be the consideration of a proposed new Regional Airport.

Project History: In 1990, the FAA began preparation of an EIS to address construction of a new air carrier runway. However, successful completion of the 1990 draft EIS was never accomplished. In 1998, the City of New Orleans and the New Orleans Aviation Board began moving forward with the EIS for a new runway. The FAA selected a consultant and preparation of the EIS was begun in late 1999. The U.S. Army Corps of Engineers is a cooperating agency with the FAA on this EIS.

FOR FURTHER INFORMATION CONTACT: Joyce M. Porter, Environmental Specialist, Federal Aviation Administration, Southwest Regional Office, Fort Worth, Texas 76193-0640. Telephone (817) 222-5640.

SUPPLEMENTARY INFORMATION: The FAA, in cooperation with the City of New Orleans and the New Orleans Aviation Board, will prepare an EIS for the proposed projects. The City of New Orleans and the New Orleans Aviation Board propose to construct a new air carrier runway, 8,000 ft long and 150 ft wide, and its associated taxiways; convert a east/west taxiway into a parallel Visual Flight Rule general aviation runway, 6,731 ft long and 100 ft wide, and construct a new parallel taxiway; and redesignate the existing runway 6/24 to a taxiway. The FAA intends to conduct a scoping process to gather input from all interested parties to help identify any issues of concern associated with the proposed projects. In addition to this notice, Federal, state, and local agencies, which have jurisdiction by law or have special expertise with respect to any potential environmental impacts associated with the proposed projects, will be notified by letter of an agency scoping meeting to be held January 11, 2001 in the New Orleans Aviation Board Room at the airport from 9 a.m. to 12 p.m.

In order to notify the general public of the scoping process, a notice will be placed in a newspaper having general circulation in the project area describing the proposed projects. The newspaper notice will notify the public that scoping meetings will be held to gain their input concerning the proposed project. The scoping meetings are scheduled for: January 8, 2001 at the Jerusalem Temple, 1940 Ormond Blvd, Destrehan, LA; January 9, 2001 at the Pontchartrain Center, 4545 Williams Blvd in Kenner, LA; and January 10, 2001 at the Delgado Community College, Michael Williamson Gymnasium, 615 City Park Avenue in New Orleans, LA. Each of the three meetings will consist of a public workshop providing information about the proposed projects from 4 p.m. to 7 p.m., followed by an Open Forum to obtain public comments from 7 p.m. to 10 p.m. During the public workshops, participants will be able to view project related materials and speak with representatives of the FAA and their consulting team. The purpose of the Open Forum is to receive comments from the public and answer questions regarding the scope and process related to the EIS.

Issued on: November 17, 2000.
Naomi L. Saunders,
Manager, Airports Division.

[FR Doc. 00-30254 Filed 11-27-00; 8:45 am]

BILLING CODE 4910-13-M